DEPARTMENT OF DEFENSE

GENERAL SERVICES ADMINISTRATION

NATIONAL AERONAUTICS AND SPACE ADMINISTRATION

48 CFR Parts 2, 4, 8, 9, 12, 13, 16, 17, 18, 19, 22, 25, 26, 28, 32, 44, and 52

[FAC 2005-67; FAR Case 2012-033; Item III; Docket 2012-0033, Sequence 1]

RIN 9000-AM51

Federal Acquisition Regulation; System for Award Management Name Change, Phase 1 Implementation

AGENCY: Department of Defense (DoD), General Services Administration (GSA), and National Aeronautics and Space Administration (NASA).

ACTION: Final rule.

SUMMARY: DoD, GSA, and NASA are issuing a final rule amending the Federal Acquisition Regulation (FAR) to reflect the joining of the Central Contractor Registration (CCR), Online Representations and Certification Application (ORCA), and Excluded Parties List System (EPLS) databases into the System for Award Management (SAM) database.

DATES: Effective Date: July 22, 2013.

FOR FURTHER INFORMATION CONTACT: Mr. Curtis E. Glover, Sr., Procurement Analyst, at 202-501-1448, for clarification of content. For information pertaining to status or publication schedules, contact the Regulatory Secretariat at 202-501-4755. Please cite FAC 2005-67, FAR Case 2012-033.

SUPPLEMENTARY INFORMATION:

I. Background

The E-Government Act of 2002 (Pub. L. 107-347) was enacted in an effort to improve the management and promotion of electronic Government services and processes. The Act established a framework of measures that require using Internet-based information technology to improve citizen access to Government information and services. GSA has embraced the intent of the Act by consolidating the Government-wide acquisition and award support systems into SAM. SAM is an information system tool that streamlines the Federal acquisition business processes by acting as a single authoritative data source for vendor, contract award, and reporting information, thereby eliminating the need to enter multiple sites and perform duplicative data entry. SAM consolidates hosting to improve the efficiency of doing business with the Government.

GSA began implementation of Phase 1 of SAM on July 29, 2012. Phase 1 combined the functional capabilities of the CCR, ORCA, and EPLS applications into the SAM database. Upon implementation, the pre-existing applications were retired, and all requirements for entity registration, representations and certifications, and exclusions are now accomplished via SAM. This final rule amends the FAR by updating references and names to conform to the SAM designation. This final rule also makes a number of minor additional conforming changes, such as updates to definitions.

II. Publication of This Final Rule for Public Comment Is Not Required by Statute

“Publication of proposed regulations”, 41 U.S.C. 1707, is the statute which applies to the publication of the Federal Acquisition Regulation. Paragraph (a)(1) of the statute requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment, because the rule itself does not change the databases and applications referenced in the FAR, it only reflects changes that have occurred to the systems that are utilized in the performance of those functions relating to entity registration, representations and certifications, and exclusions. Therefore, this rule does not create a significant cost or administrative impact on contractors or offerors.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant FAR revision within the meaning of 41 U.S.C. 1707 and does not require publication for public comment.

V. Paperwork Reduction Act

The final rule does not contain any information collection requirements that require the approval of the Office of Management and Budget under the Paperwork Reduction Act (44 U.S.C. chapter 35).

List of Subjects in 48 CFR Parts 2, 4, 8, 9, 12, 13, 16, 17, 18, 19, 22, 25, 26, 28, 32, 44, and 52

Government procurement.

Dated: June 13, 2013.
William Clark,
Acting Director, Office of Governmentwide Acquisition Policy, Office of Acquisition Policy, Office of Governmentwide Policy.

Therefore, DoD, GSA, and NASA amend 48 CFR parts 2, 4, 8, 9, 12, 13, 16, 17, 18, 19, 22, 25, 26, 28, 32, 44, and 52 as set forth below:

1. The authority citation for 48 CFR parts 2, 4, 8, 12, 13, 16, 17, 19, 22, 25, 32, and 52 continues to read as follows:

Authority: 40 U.S.C. 121(c); 10 U.S.C. chapter 137; and 51 U.S.C. 20113.

PART 2—DEFINITIONS OF WORDS AND TERMS

2. Amend section 2.101 in paragraph (b)(2) by—

a. Removing the definition “Central Contractor Registration (CCR) database”;

b. Removing from the definition, “Data Universal Numbering System +4 (DUNS+4) number” the word “CCR” and adding “System for Award Management” in its place;

c. Removing the definitions “Excluded Parties List System” and “Online Representations and Certifications Application (ORCA)”;

d. Removing the definition “Registered in the CCR database” and adding, in alphabetical order, the definition “Registered in the System for Award Management (SAM) database”;

e. Removing from the definition, “Small disadvantaged business concern” in paragraph (1)(iii), the word “CCR”; and

f. Adding, in alphabetical order, the definition “System for Award Management (SAM)” to read as follows:

2.101 Definitions.

* * * * *

(b) * * *

(2) * * *

Registered in the System for Award Management (SAM) database means that—

(1) The Contractor has entered all mandatory information, including the DUNS number or the DUNS+4 number, the Contractor and Government Entity (CAGE) code, as well as data required by the Federal Funding Accountability and Transparency Act of 2006 (see subpart 4.14), into the SAM database;

(2) The Contractor has completed the Core, Assertions, Representations and Certifications, and Points of Contact sections of the registration in the SAM database;

(3) The Government has validated all mandatory data fields, to include validation of the Taxpayer Identification Number (TIN) with the Internal Revenue Service (IRS). The contractor will be required to provide consent for TIN validation to the Government as a part of the SAM registration process; and

(4) The Government has marked the record “Active”.

* * * * *

System for Award Management (SAM) means the primary Government repository for prospective Federal awardee and Federal awardee information and the centralized Government system for certain contracting, grants, and other assistance-related processes. It includes—

(1) Data collected from prospective Federal awardees required for the conduct of business with the Government;

(2) Prospective contractor-submitted annual representations and certifications in accordance with FAR subpart 4.12; and

(3) Identification of those parties excluded from receiving Federal contracts, certain subcontracts, and certain types of Federal financial and non-financial assistance and benefits.

* * * * *

PART 4—ADMINISTRATIVE MATTERS

4.203 [Amended]

3. Amend section 4.203 by removing from the introductory text of paragraph (e)(1) “a central contractor registration database” and adding “the System for Award Management” in its place.

4. Amend section 4.605 by revising paragraph (b) to read as follows:

4.605 Procedures.

* * * * *

(b) Data Universal Numbering System. The contracting officer must identify and report a Data Universal Numbering System (DUNS) number (Contractor Identification Number) for the successful offeror on a contract action. The DUNS number reported must identify the successful offeror's name and address as stated in the offer and resultant contract, and as registered in the System for Award Management database in accordance with the provision at 52.204-7, System for Award Management. The contracting officer must ask the offeror to provide its DUNS number by using either the provision at 52.204-6, Data Universal Numbering System Number, the provision at 52.204-7, System for Award Management, or the provision at 52.212-1, Instructions to Offerors—Commercial Items.

* * * * *

4.607 [Amended]

5. Amend section 4.607 by removing from paragraph (b) “Central Contractor Registration” and adding “System for Award Management” in its place.

4.905 [Amended]

6. Amend section 4.905 by removing from paragraph (a) “Central Contractor Registration” and adding “System for Award Management” in its place.

7. Revising the subpart heading of Subpart 4.11 to read as follows:

Subpart 4.11—System for Award Management

4.1100 [Amended]

8. Amend section 4.1100 by removing from the introductory text “Central Contractor Registration (CCR)” and adding “System for Award Management (SAM)” in its place.

4.1102 [Amended]

9. Amend section 4.1102 by—

a. Removing from paragraph (a), introductory text, and paragraph (a)(2) “CCR” and adding “SAM” in their places (three times);

b. Removing from paragraph (a)(6) “CCR” and adding “System for Award Management” in its place;

c. Removing from paragraph (b) and paragraph (c)(1)(i) “CCR” and adding “SAM” in their places;

d. Removing from paragraph (c)(1)(ii) “Central Contractor Registration” and “CCR” and adding “System for Award Management” and “SAM” in their places, respectively; and

e. Removing from paragraph (c)(2) and paragraph (c)(3) “CCR” and adding “SAM” in their places (three times).

4.1103 [Amended]

10. Amend section 4.1103 by—

a. Removing from paragraph (a)(1) “CCR” and adding “SAM” in its place (twice);

b. Removing from paragraphs (b), introductory text, and (b)(1) “CCR” and adding “SAM” in their places; and

c. Removing from paragraph (b)(3) “CCR” and adding “the System for Award Management” in its place.

d. Removing from paragraph (c) “CCR” and adding “SAM” in their places.

4.1105 [Amended]

11. Amend section 4.1105 by removing from paragraphs (a)(1), (a)(2), and (b) the words “Central Contractor Registration” and adding “System for Award Management” in its place.

4.1200 [Amended]

12. Amend section 4.1200 by removing from the introductory text “Online Representations and Certifications Application (ORCA)” and adding “System for Award Management (SAM)” in its place.

13. Amend section 4.1201 by:

a. Revising paragraph (a); and

b. Removing from paragraphs (b)(1), (b)(2), and (c) “ORCA” and adding “SAM” in their places (eight times).

The revised text reads as follows:

4.1201 Policy.

(a) Prospective contractors shall complete electronic annual representations and certifications at SAM accessed via https://www.acquisition.gov as a part of required registration (see FAR 4.1102).

* * * * *

4.1202 [Amended]

14. Amend section 4.1202 by removing from the introductory text “Central Contract Registration” and adding “System for Award Management” in its place.

PART 8—REQUIRED SOURCES OF SUPPLIES AND SERVICES

8.402 [Amended]

15. Amend section 8.402 by removing from paragraph (g) “Central Contractor Registration (CCR)” and adding “System for Award Management” in its place.

PART 9—CONTRACTOR QUALIFICATIONS

16. The authority citation for 48 CFR part 9 is revised to read as follows:

Authority: 40 U.S.C. 121(c); 10 U.S.C. chapter 137; and 51 U.S.C. 20113.

9.105-1 [Amended]

17. Amend section 9.105-1 by removing from paragraph (c), introductory text, “Excluded Parties List System (EPLS)” and adding “System for Award Management Exclusions” in its place.

18. Amend section 9.207 by revising paragraph (a)(9) to read as follows:

9.207 Changes in status regarding qualification requirements.

(a) * * *

(9) The source is listed in the System for Award Management Exclusions (see Subpart 9.4); or

* * * * *

19. Revise section 9.404 to read as follows:

9.404 System for Award Management Exclusions.

(a) The General Services Administration (GSA)—

(1) Operates the web-based System for Award Management (SAM) Exclusions; and

(2) Provides technical assistance to Federal agencies in the use of SAM.

(b) The SAM Exclusions contains the—

(1) Names and addresses of all contractors debarred, suspended, proposed for debarment, declared ineligible, or excluded or disqualified under the nonprocurement common rule, with cross-references when more than one name is involved in a single action;

(2) Name of the agency or other authority taking the action;

(3) Cause for the action (see 9.406-2 and 9.407-2 for causes authorized under this subpart) or other statutory or regulatory authority;

(4) Effect of the action;

(5) Termination date for each listing;

(6) Data Universal Numbering System number;

(7) Social Security Number (SSN), Employer Identification Number (EIN), or other Taxpayer Identification Number (TIN), if available; and

(8) Name and telephone number of the agency point of contact for the action.

(c) Each agency must—

(1) Obtain password(s) from GSA to access SAM for data entry;

(2) Notify GSA in the event a password needs to be rescinded (e.g., when an agency employee leaves or changes function);

(3) Enter the information required by paragraph (b) of this section within 3 working days after the action becomes effective;

(4) Determine whether it is legally permitted to enter the SSN, EIN, or other TIN, under agency authority to suspend or debar;

(5) Update SAM Exclusions, generally within 5 working days after modifying or rescinding an action;

(6) In accordance with internal retention procedures, maintain records relating to each debarment, suspension, or proposed debarment taken by the agency;

(7) Establish procedures to ensure that the agency does not solicit offers from, award contracts to, or consent to subcontracts with contractors whose names are in SAM Exclusions, except as otherwise provided in this subpart;

(8) Direct inquiries concerning listed contractors to the agency or other authority that took the action; and

(9) Contact GSA for technical assistance with SAM, via the support email address or on the technical support phone line available at the SAM Web site provided in paragraph (d) of this section.

(d) SAM is available via https://www.acquisition.gov.

9.405 [Amended]

20. Amend section 9.405 by removing from paragraphs (b), (d)(1), and (d)(4) the words “the EPLS” and adding “SAM Exclusions” in its place.

9.405-2 [Amended]

21. Amend section 9.405-2 by—

a. Removing from paragraph (b), introductory text, “inclusion in the EPLS” and adding “listing in SAM Exclusions” in its place;

b. Removing from paragraph (b)(2) “in the EPLS” and adding “listed in SAM Exclusions” in its place; and

c. Removing from paragraph (b)(3) “inclusion in the EPLS” and adding “listing in SAM Exclusions” in its place.

PART 12—ACQUISITION OF COMMERCIAL ITEMS

12.301 [Amended]

22. Amend section 12.301 by removing from paragraph (e)(4) “Online Representations and Certifications Application (ORCA) Database” and adding “System for Award Management database” in its place.

PART 13—SIMPLIFIED ACQUISITION PROCEDURES

13.102 [Amended]

23. Amend section 13.102 by removing from paragraph (a), introductory text, “Central Contractor Registration” and adding “System for Award Management” in its place.

13.201 [Amended]

24. Amend section 13.201 by removing from paragraph (h) “Central Contractor Registration (CCR)” and adding “System for Award Management” in its place.

PART 16—TYPES OF CONTRACTS

16.505 [Amended]

25. Amend section 16.505 by removing from paragraph (a)(12) “Central Contractor Registration (CCR)” and adding “System for Award Management” in its place.

PART 17—SPECIAL CONTRACTING METHODS

26. Amend section 17.207 by revising paragraph (c)(5) to read as follows:

17.207 Exercise of options.

* * * * *

(c) * * *

(5) The contractor is not listed in the System for Award Management Exclusions (see FAR 9.405-1).

* * * * *

PART 18—EMERGENCY ACQUISITIONS

27. The authority citation for 48 CFR part 18 is revised to read as follows:

Authority: 40 U.S.C. 121(c); 10 U.S.C. chapter 137; and 51 U.S.C. 20113.

28. Revise section 18.102 to read as follows:

18.102 System for Award Management.

Contractors are not required to be registered in the System for Award Management (SAM) database for contracts awarded to support unusual and compelling needs or emergency acquisitions. (See 4.1102). However, contractors are required to register with SAM in order to gain access to the Disaster Response Registry. Contracting officers shall consult the Disaster Response Registry via https://www.acquisition.gov to determine the availability of contractors for debris removal, distribution of supplies, reconstruction, and other disaster or emergency relief activities inside the United States and outlying areas. (See 26.205).

PART 19—SMALL BUSINESS PROGRAMS

19.308 [Amended]

29. Amend section 19.308 by removing from paragraph (h)(2)(i) “Central Contractor Registration (CCR) and Online Representations and Certifications Application (ORCA)” and adding “System for Award Management (SAM)” in its place; and removing from paragraph (h)(3)(iv) “CCR and ORCA” and adding “SAM” in its place.

19.703 [Amended]

30. Amend section 19.703 by removing from paragraph (d)(1), introductory text, “Central Contractor Registration (CCR)” and adding “System for Award Management” in its place.

19.1503 [Amended]

31. Amend section 19.1503 by removing from paragraph (b)(1) “Central Contractor Registration (CCR)” and adding “the System for Award Management (SAM)” in its place; and removing from paragraph (b)(2) “in the Online Representations and Certifications Application (ORCA)” and adding “as an EDWOSB or WOSB concern in SAM” in its place.

PART 22—APPLICATION OF LABOR LAWS TO GOVERNMENT ACQUISITIONS

22.1025 [Amended]

32. Amend section 22.1025 by removing “Excluded Parties List System” and adding “System for Award Management Exclusions” in its place.

PART 25—FOREIGN ACQUISITION

25.703-3 [Amended]

33. Amend section 25.703-3 by removing from paragraph (a) “on the Excluded Parties List System” and adding “in the System for Award Management Exclusions” in its place.

PART 26—OTHER SOCIOECONOMIC PROGRAMS

34. The authority citation for 48 CFR part 26 is revised to read as follows:

Authority: 40 U.S.C. 121(c); 10 U.S.C. chapter 137; and 51 U.S.C. 20113.

26.205 [Amended]

35. Amend section 26.205 by removing from paragraph (b) “CCR Search” and “CCR” and adding “System for Award Management (SAM) search” and “SAM” in their places, respectively.

PART 28—BONDS AND INSURANCE

36. The authority citation for 48 CFR part 28 is revised to read as follows:

Authority: 40 U.S.C. 121(c); 10 U.S.C. chapter 137; and 51 U.S.C. 20113.

28.203-7 [Amended]

37. Amend section 28.203-7 by removing from paragraphs (c) and (d) “Excluded Parties List System” and adding “System for Award Management Exclusions” in their places.

PART 32—CONTRACT FINANCING

32.805 [Amended]

38. Amend section 32.805 by removing from paragraph (d)(4) “Central Contractor Registration” and adding “System for Award Management” in its place.

32.905 [Amended]

39. Amend section 32.905 by removing from paragraph (b)(1)(ix)(B) “Central Contractor Registration” and adding “System for Award Management” in its place (twice).

40. Amend section 32.1108 by—

a. Removing from paragraph (b)(2)(i) “Central Contractor Registration (CCR)” and adding “System for Award Management (SAM)” in its place;

b. Revise paragraph (b)(2)(ii); and

c. Removing from paragraphs (b)(2)(iii) and (b)(2)(iv) “CCR” and adding “SAM” in its place.

The revised text reads as follows:

32.1108 Payment by Governmentwide commercial purchase card.

* * * * *

(b) * * *

(2) * * *

(ii) The contracting officer shall not authorize the Governmentwide commercial purchase card as a method of payment during any period the SAM indicates that the contractor has delinquent debt subject to collection under the TOP. In such cases, payments under the contract shall be made in accordance with the clause at 52.232-33, Payment by Electronic Funds Transfer—System for Award Management, or 52.232-34, Payment by Electronic Funds Transfer—Other Than System for Award Management, as appropriate (see FAR 32.1110(d)).

* * * * *

41. Amend section 32.1110 by—

a. Removing from the introductory text of paragraph (a)(1) “Central Contractor Registration” and “CCR” and adding “System for Award Management” and “System for Award Management (SAM)” in its place, respectively;

b. Revising paragraph (a)(2)(i); and

c. Removing from paragraphs (d), (e)(1), (e)(2), and (g) “Central Contractor Registration” and adding “System for Award Management” in their places (five times).

The revised text reads as follows:

32.1110 Solicitation provision and contract clauses.

(a) * * *

(2)(i) 52.232-34, Payment by Electronic Funds Transfer—Other than System for Award Management, in solicitations and contracts that require EFT as the method for payment but do not include the provision at 52.204-7, System for Award Management, or a similar agency clause that requires the contractor to be registered in the SAM database.

* * * * *

PART 44—SUBCONTRACTING POLICIES AND PROCEDURES

42. The authority citation for 48 CFR part 44 is revised to read as follows:

Authority: 40 U.S.C. 121(c); 10 U.S.C. chapter 137; and 51 U.S.C. 20113.

44.202-2 [Amended]

43. Amend section 44.202-2 by removing from paragraph (a)(13) “Excluded Parties List System” and adding “System for Award Management Exclusions” in its place.

44. Amend section 44.303 by revising paragraph (d) to read as follows:

44.303 Extent of review.

* * * * *

(d) Methods of evaluating subcontractor responsibility, including the contractor's use of the System for Award Management Exclusions (see 9.404) and, if the contractor has subcontracts with parties on the Exclusions list, the documentation, systems, and procedures the contractor has established to protect the Government's interests (see 9.405-2);

* * * * *

PART 52—SOLICITATION PROVISIONS AND CONTRACT CLAUSES

45. Amend section 52.204-6 by:

a. Revising the date of the provision; and

b. Removing from paragraph (b) “CCR” and adding “System for Award Management” in its place.

The revised text reads as follows:

52.204-6 Data Universal Numbering System Number.

* * * * *

Data Universal Numbering System Number (Jul 2013)

* * * * *

46. Amend section 52.204-7 by—

a. Revising the section heading;

b. Revising the provision heading and the date of the provision;

c. Amending paragraph (a) by—

i. Removing the definition “Central Contractor Registration (CCR) database”;

ii. Removing from the definition “Data Universal Numbering System +4 (DUNS+4) number” the acronym “CCR” and adding “System for Award Management” in its place;

iii. Removing the definition “Registered in the CCR database”; and adding, in alphabetical order, the definition “Registered in the System for Award Management (SAM) database”; and

d. Removing from paragraphs (b)(1), (b)(2), and (d) “CCR” and adding “SAM” in their places; and

e. Revising the date of Alternate I; and removing from paragraph (b)(1) of Alternate I “CCR database” and adding “System for Award Management” in its place (twice).

The revised text reads as follows:

52.204-7 System for Award Management.

* * * * *

System for Award Manangement (Jul 2013)

(a) * * *

Registered in the System for Award Management (SAM) database means that—

(1) The offeror has entered all mandatory information, including the DUNS number or the DUNS+4 number, the Contractor and Government Entity (CAGE) code, as well as data required by the Federal Funding Accountability and Transparency Act of 2006 (see Subpart 4.14) into the SAM database;

(2) The offeror has completed the Core, Assertions, and Representations and Certifications, and Points of Contact sections of the registration in the SAM database;

(3) The Government has validated all mandatory data fields, to include validation of the Taxpayer Identification Number (TIN) with the Internal Revenue Service (IRS). The offeror will be required to provide consent for TIN validation to the Government as a part of the SAM registration process; and

(4) The Government has marked the record “Active”.

* * * * *

Alternate I (Jul 2013) * * *

* * * * *

47. Amend section 52.204-8 by—

a. Revising the date of the provision;

b. Removing from paragraph (b)(1) “Central Contractor Registration” and adding “System for Award Management” in its place;

c. Removing from paragraph (b)(2), introductory text, “CCR” and “ORCA” and adding “the System for Award Management (SAM)” and “Representations and Certifications section of SAM” in their places, respectively;

d. Removing from paragraph (c)(1), introductory text, “ORCA” and adding “SAM” in its place;

e. Removing from paragraph (c)(1)(iii) “Central Contractor Registration” and adding “System for Award Management” in its place; and

f. Revising paragraph (d).

The revised text reads as follows:

52.204-8 Annual Representations and Certifications.

* * * * *

Annual Representations and Certifications (Jul 2013)

* * * * *

(d) The offeror has completed the annual representations and certifications electronically via the SAM Web site accessed through https://www.acquisition.gov. After reviewing the SAM database information, the offeror verifies by submission of the offer that the representations and certifications currently posted electronically that apply to this solicitation as indicated in paragraph (c) of this provision have been entered or updated within the last 12 months, are current, accurate, complete, and applicable to this solicitation (including the business size standard applicable to the NAICS code referenced for this solicitation), as of the date of this offer and are incorporated in this offer by reference (see FAR 4.1201); except for the changes identified below [offeror to insert changes, identifying change by clause number, title, date]. These amended representation(s) and/or certification(s) are also incorporated in this offer and are current, accurate, and complete as of the date of this offer.

FAR Clause No. | Title | Date | Change

Any changes provided by the offeror are applicable to this solicitation only, and do not result in an update to the representations and certifications posted on SAM.

48. Amend section 52.204-10 by—

a. Revising the date of the clause;

b. Removing from paragraph (d)(1), introductory text, “Central Contractor Registration (CCR)” and adding “System for Award Management (SAM)” in its place; and

c. Removing from paragraph (h) “CCR” and adding “SAM” in its place (twice).

The revised text reads as follows:

52.204-10 Reporting Executive Compensation and First-Tier Subcontract Awards.

* * * * *

Reporting Executive Compensation and First-Tier Subcontract Awards (Jul 2013)

* * * * *

49. Amend section 52.204-13 by—

a. Revising the section heading;

b. Revising the clause heading and the date of the clause;

c. Amending paragraph (a) by—

i. Removing the definition “Central Contractor Registration (CCR) database”;

ii. Removing from the definition “Data Universal Numbering System +4 (DUNS+4) number” the acronym “CCR” and adding “SAM” in its place;

iii. Removing the definition “Registered in the CCR database” and adding, in alphabetical order, the definition “Registered in the System for Award Management (SAM) database”; and

iv. Adding, in alphabetical order, the definition “System for Award Management (SAM)”;

d. Removing from paragraph (b) “CCR” and adding “SAM” in its place (four times);

e. Removing from paragraphs (c)(1)(i)(A) and (c)(1)(ii) “CCR” and adding “SAM” in its place; and

f. Revising paragraph (c)(2).

The revised text reads as follows:

52.204-13 System for Award Management Maintenance.

* * * * *

System for Award Management Maintenance (Jul 2013)

(a) * * *

Registered in the System for Award Management (SAM) database means that—

(1) The Contractor has entered all mandatory information, including the DUNS number or the DUNS+4 number, the Contractor and Government Entity (CAGE) code, as well as data required by the Federal Funding Accountability and Transparency Act of 2006 (see subpart 4.14), into the SAM database;

(2) The Contractor has completed the Core, Assertions, Representations and Certifications, and Points of Contact sections of the registration in the SAM database;

(3) The Government has validated all mandatory data fields, to include validation of the Taxpayer Identification Number (TIN) with the Internal Revenue Service (IRS). The Contractor will be required to provide consent for TIN validation to the Government as a part of the SAM registration process; and

(4) The Government has marked the record “Active”.

System for Award Management (SAM) means the primary Government repository for prospective Federal awardee and Federal awardee information and the centralized Government system for certain contracting, grants, and other assistance-related processes. It includes—

(1) Data collected from prospective Federal awardees required for the conduct of business with the Government;

(2) Prospective contractor-submitted annual representations and certifications in accordance with FAR subpart 4.12; and

(3) Identification of those parties excluded from receiving Federal contracts, certain subcontracts, and certain types of Federal financial and non-financial assistance and benefits.

* * * * *

(c) * * *

(2) The Contractor shall not change the name or address for EFT payments or manual payments, as appropriate, in the SAM record to reflect an assignee for the purpose of assignment of claims (see FAR subpart 32.8, Assignment of Claims). Assignees shall be separately registered in the SAM. Information provided to the Contractor's SAM record that indicates payments, including those made by EFT, to an ultimate recipient other than that Contractor will be considered to be incorrect information within the meaning of the “Suspension of Payment” paragraph of the EFT clause of this contract.

* * * * *

50. Amend section 52.209-6 by revising the date of the clause and paragraph (d) to read as follows:

52.209-6 Protecting the Government's Interest When Subcontracting with Contractors Debarred, Suspended, or Proposed for Debarment.

* * * * *

Protecting The Government's Interest When Subcontracting With Contractors Debarred, Suspended, or Proposed for Debarment (Jul 2013)

* * * * *

(d) A corporate officer or a designee of the Contractor shall notify the Contracting Officer, in writing, before entering into a subcontract with a party (other than a subcontractor providing a commercially available off-the-shelf item) that is debarred, suspended, or proposed for debarment (see FAR 9.404 for information on the System for Award Management (SAM) Exclusions). The notice must include the following:

(1) The name of the subcontractor.

(2) The Contractor's knowledge of the reasons for the subcontractor being listed with an exclusion in SAM.

(3) The compelling reason(s) for doing business with the subcontractor notwithstanding its being listed with an exclusion in SAM.

(4) The systems and procedures the Contractor has established to ensure that it is fully protecting the Government's interests when dealing with such subcontractor in view of the specific basis for the party's debarment, suspension, or proposed debarment.

* * * * *

51. Amend section 52.209-7 by:

a. Revising the date of the provision; and

b. Removing from paragraph (d) “Central Contractor Registration” and adding “System for Award Management” in its place.

The revised text reads as follows:

52.209-7 Information Regarding Responsibility Matters.

* * * * *

Information Regarding Responsibility matters (Jul 2013)

* * * * *

52. Amend section 52.209-9 by revising the date of the clause; and removing from paragraph (a) “Central Contractor Registration” and adding “System for Award Management” in its place. The revised text reads as follows:

52.209-9 Updates of Publicly Available Information Regarding Responsibility Matters.

* * * * *

Updates of Publicly Available Information Regarding Responsibility Matters (Jul 2013)

* * * * *

53. Amend section 52.212-1 by—

a. Revising the date of the provision;

b. Removing from paragraph (j) “Central Contractor Registration (CCR)” and “CCR” and adding “System for Award Management (SAM)” and “SAM” in their places, respectively; and

c. Revising paragraph (k).

The revised text reads as follows:

52.212-1 Instructions to Offerors—Commercial Items.

* * * * *

Instructions to Offerors—Commercial Items (Jul 2013)

* * * * *

(k) System for Award Management. Unless exempted by an addendum to this solicitation, by submission of an offer, the offeror acknowledges the requirement that a prospective awardee shall be registered in the SAM database prior to award, during performance and through final payment of any contract resulting from this solicitation. If the Offeror does not become registered in the SAM database in the time prescribed by the Contracting Officer, the Contracting Officer will proceed to award to the next otherwise successful registered Offeror. Offerors may obtain information on registration and annual confirmation requirements via the SAM database accessed through https://www.acquisition.gov.

* * * * *

54. Amend section 52.212-3 by—

a. Revising the date of the provision;

b. Removing from the introductory text “ORCA” and adding “System for Award Management (SAM)” in its place;

c. Removing from paragraph (b)(1) “Online Representations and Certifications Application (ORCA)” and adding “SAM” in its place;

d. Removing from paragraph (b)(2) “ORCA” and adding “SAM” in its place (three times);

e. Removing from paragraph (c)(10)(i)(A) “CCR” and adding “SAM” in its place; and

f. Removing from paragraph (l), introductory text “a central contractor registration” and adding “the SAM” in its place.

The revised text reads as follows:

52.212-3 Offeror Representations and Certifications—Commercial Items.

* * * * *

Offeror Representations and Certifications—Commercial items (Jul 2013)

* * * * *

55. Amend section 52.212-4 by—

a. Revising the date of the clause;

b. Removing from paragraph (g)(1)(x)(B) “Central Contractor Registration” and adding “System for Award Management” in its place (twice);

c. Revising the heading of paragraph (t);

d. Removing from paragraphs (t)(1), (t)(2)(i), (t)(2)(ii), and (t)(3) “CCR” and adding “SAM” in its place (nine times); and

e. Revising paragraph (t)(4).

The revised text reads as follows:

52.212-4 Contract Terms and Conditions—Commercial Items.

* * * * *

Contract Terms and Conditions—Commercial Items (Jul 2013)

* * * * *

(t) System for Award Management (SAM) * * *

(4) Offerors and Contractors may obtain information on registration and annual confirmation requirements via SAM accessed through https://www.acquisition.gov.

* * * * *

56. Amend section 52.212-5 by—

a. Revising the date of the clause;

b. Revising paragraphs (b)(4), (b)(6), (b)(7), (b)(14), (b)(15)(i), (b)(20), (b)(23), (b)(24), (b)(25), (b)(48), (b)(49), and (b)(50);

c. Revising paragraph (e)(1)(ii); and

d. Amending Alternate II by revising the dates in the introductory text and the first sentence in paragraph (e)(1)(ii)(C).

The revised text reads as follows:

52.212-5 Contract Terms and Conditions Required to Implement Statutes or Executive Orders—Commercial Items.

* * * * *

Contract Terms and Conditions Required to Implement Statutes or Executive Orders—Commercial Items (Jul 2013)

* * * * *

(b) * * *

__ (4) 52.204-10, Reporting Executive Compensation and First-Tier Subcontract Awards (Jul 2013) (Pub. L. 109-282) (31 U.S.C. 6101 note).

* * * * *

__ (6) 52.209-6, Protecting the Government's Interest When Subcontracting with Contractors Debarred, Suspended, or Proposed for Debarment. (Jul 2013) (31 U.S.C. 6101 note).

__ (7) 52.209-9, Updates of Publicly Available Information Regarding Responsibility Matters (Jul 2013) (41 U.S.C. 2313).

* * * * *

__ (14) 52.219-8, Utilization of Small Business Concerns (Jul 2013) (15 U.S.C. 637 (d)(2) and (3)).

__ (15)(i) 52.219-9, Small Business Subcontracting Plan (Jul 2013) (15 U.S.C. 637(d)(4)).

* * * * *

__ (20) 52.219-25, Small Disadvantaged Business Participation Program—Disadvantaged Status and Reporting (Jul 2013) (Pub. L. 103-355, section 7102, and 10 U.S.C. 2323).

* * * * *

____ (23) 52.219-28, Post Award Small Business Program Rerepresentation (Jul 2013) (15 U.S.C. 632(a)(2)).

__ (24) 52.219-29, Notice of Set-Aside for Economically Disadvantaged Women-Owned Small Business (EDWOSB) Concerns (Jul 2013) (15 U.S.C. 637(m)).

__ (25) 52.219-30, Notice of Set-Aside for Women-Owned Small Business (WOSB) Concerns Eligible Under the WOSB Program (Jul 2013) (15 U.S.C. 637(m)).

* * * * *

__ (48) 52.232-33, Payment by Electronic Funds Transfer—System for Award Management (Jul 2013) (31 U.S.C. 3332).

__ (49) 52.232-34, Payment by Electronic Funds Transfer—Other than System for Award Management (Jul 2013) (31 U.S.C. 3332).

__ (50) 52.232-36, Payment by Third Party (Jul 2013) (31 U.S.C. 3332).

* * * * *

(e)(1) * * *

(ii) 52.219-8, Utilization of Small Business Concerns (Jul 2013) (15 U.S.C. 637(d)(2) and (3)), in all subcontracts that offer further subcontracting opportunities. If the subcontract (except subcontracts to small business concerns) exceeds $650,000 ($1.5 million for construction of any public facility), the subcontractor must include 52.219-8 in lower tier subcontracts that offer subcontracting opportunities.

* * * * *

__ Alternate II (Jul 2013) * * *

* * * * *

(e)(1) * * *

(ii) * * *

(C) 52.219-8, Utilization of Small Business Concerns (Jul 2013) (15 U.S.C. 637(d)(2) and (3)), in all subcontracts that offer further subcontracting opportunities. * * *

* * * * *

57. Amend section 52.213-4 by revising the date of the clause and paragraphs (a)(2)(iv), (a)(2)(vi), (b)(1)(i), (b)(1)(xi), (b)(1)(xii), and (b)(2)(i) to read as follows:

52.213-4 Terms and Conditions—Simplified Acquisitions (Other Than Commercial Items).

* * * * *

Terms and Conditions—Simplified Acquisitions (Other Than Commercial Items) (Jul 2013)

* * * * *

(a) * * *

(2) * * *

(iv) 52.232-25, Prompt Payment (Jul 2013).

* * * * *

(vi) 52.244-6, Subcontracts for Commercial Items (Jul 2013).

* * * * *

(b) * * *

(1) * * *

(i) 52.204-10, Reporting Executive Compensation and First-Tier Subcontract Awards (Jul 2013) (Pub. L. 109-282) (31 U.S.C. 6101 note) (Applies to contracts valued at $25,000 or more).

* * * * *

(xi) 52.232-33, Payment by Electronic Funds Transfer—System for Award Management (Jul 2013). (Applies when the payment will be made by electronic funds transfer (EFT) and the payment office uses the System for Award Management (SAM) database as its source of EFT information.)

(xii) 52.232-34, Payment by Electronic Funds Transfer—Other than System for Award Management (Jul 2013). (Applies when the payment will be made by EFT and the payment office does not use the SAM database as its source of EFT information.)

* * * * *

(2) * * *

(i) 52.209-6, Protecting the Government's Interest When Subcontracting with Contractors Debarred, Suspended, or Proposed for Debarment (Jul 2013) (Applies to contracts over $30,000).

* * * * *

58. Amend section 52.219-8 by—

a. Revising the date of the clause;

b. Removing from paragraph (c), in the definition “Small disadvantaged business concern”, in paragraph (1)(iv) the acronym, “CCR”; and

c. Removing from paragraph (d)(2), introductory text, “Central Contractor Registration (CCR)” and adding “System for Award Management” in its place.

The revised text reads as follows:

52.219-8 Utilization of Small Business Concerns.

* * * * *

Utilization of Small Business Concerns (Jul 2013)

* * * * *

59. Amend section 52.219-9 by—

a. Revising the date of the clause;

b. Revising paragraph (d)(5);

c. Removing from paragraph (d)(11)(i) “CCR” and adding “SAM” in its place; and

d. Removing from paragraph (e)(4) “Central Contractor Registration (CCR)” and adding “SAM” in its place.

The revised text reads as follows:

52.219-9 Small Business Subcontracting Plan.

* * * * *

Small Business Subcontracting Plan (Jul 2013)

* * * * *

(d) * * *

(5) A description of the method used to identify potential sources for solicitation purposes (e.g., existing company source lists, the System for Award Management (SAM), veterans service organizations, the National Minority Purchasing Council Vendor Information Service, the Research and Information Division of the Minority Business Development Agency in the Department of Commerce, or small, HUBZone, small disadvantaged, and women-owned small business trade associations). A firm may rely on the information contained in SAM as an accurate representation of a concern's size and ownership characteristics for the purposes of maintaining a small, veteran-owned small, service-disabled veteran-owned small, HUBZone small, small disadvantaged, and women-owned small business source list. Use of SAM as its source list does not relieve a firm of its responsibilities (e.g., outreach, assistance, counseling, or publicizing subcontracting opportunities) in this clause.

* * * * *

60. Amend section 52.219-25 by:

a. Revising the date of the clause; and

b. Removing from paragraph (a) “Central Contractor Registration database” and adding “System for Award Management” in its place.

The revised text reads as follows:

52.219-25 Small Disadvantaged Business Participation Program—Disadvantaged Status and Reporting.

* * * * *

Small Disadvantaged Business Participation Program—Disadvantaged Status and Reporting (Jul 2013)

* * * * *

61. Amend section 52.219-28 by—

a. Revising the date of the clause;

b. Revising paragraph (e); and

c. Removing from paragraph (g) “ORCA” and adding “SAM” in its place (two times).

The revised text reads as follows:

52.219-28 Post-Award Small Business Program Rerepresentation.

* * * * *

Post-Award Small Business Program Rerepresentation (Jul 2013)

* * * * *

(e) Except as provided in paragraph (g) of this clause, the Contractor shall make the representation required by paragraph (b) of this clause by validating or updating all its representations in the Representations and Certifications section of the System for Award Management (SAM) and its other data in SAM, as necessary, to ensure that they reflect the Contractor's current status. The Contractor shall notify the contracting office in writing within the timeframes specified in paragraph (b) of this clause that the data have been validated or updated, and provide the date of the validation or update.

* * * * *

62. Amend section 52.219-29 by:

a. Revising the date of the clause; and

b. Removing from paragraph (e)(2) “Central Contractor Registration (CCR) database and the Online Representations and Certifications Application (ORCA)” and adding “System for Award Management” in its place.

The revised text reads as follows:

52.219-29 Notice of Set-Aside for Economically Disadvantaged Women-Owned Small Business Concerns.

* * * * *

Notice of Set-Aside for Economically Disadvantaged Women-Owned Small Business Concerns (Jul 2013)

* * * * *

63. Amend section 52.219-30 by:

a. Revising the date of the clause; and

b. Removing from paragraph (e)(2) “Central Contractor Registration (CCR) database and the Online Representations and Certifications Application (ORCA)” and adding “System for Award Management” in its place.

The revised text reads as follows:

52.219-30 Notice of Set-Aside for Women-Owned Small Business Concerns Eligible Under the Women-Owned Small Business Program.

* * * * *

Notice of Set-Aside for Women-Owned Small Business Concerns Eligible Under the Women-Owned Small Business Program (Jul 2013)

* * * * *

64. Amend section 52.232-25 by:

a. Revising the date of the clause; and

b. Removing from paragraph (a)(3)(ix)(B) “Central Contractor Registration” and adding “System for Award Management” in its place (two times).

The revised text reads as follows:

52.232-25 Prompt Payment.

* * * * *

Prompt Payment (Jul 2013)

* * * * *

65. Amend section 52.232-26 by:

a. Revising the date of the clause; and

b. Removing from paragraph (a)(2)(ix)(B) “Central Contractor Registration” and adding “System for Award Management” in its place (two times).

The revised text reads as follows:

52.232-26 Prompt Payment for Fixed-Price Architect-Engineer Contracts.

* * * * *

Prompt Payment for Fixed-Price Architect-Engineer Contracts (Jul 2013)

* * * * *

66. Amend section 52.232-27 by revising the date of the clause; and removing from paragraph (a)(2)(x)(B) “Central Contractor Registration” and adding “System for Award Management” in its place (two times).

52.232-27 Prompt Payment for Construction Contracts.

* * * * *

Prompt Payment For Construction Contracts (Jul 2013)

* * * * *

67. Amend section 52.232-33 by—

a. Revising the section heading;

b. Revising the clause heading and the date of the clause;

c. Removing from paragraph (b) “Central Contractor Registration (CCR)” and “CCR” and adding “System for Award Management (SAM)” and “SAM” in its place, respectively;

d. Removing from paragraph (d) “CCR” and adding “SAM” in its place (two times); and

e. Removing from paragraph (g) and paragraph (i) “CCR” and adding “SAM” in its place.

The revised text reads as follows:

52.232-33 Payment by Electronic Funds Transfer—System for Award Management.

* * * * *

Payment by Electronic Funds Transfer—System for Award Management (Jul 2013)

* * * * *

68. Amend section 52.232-34 by revising the section and clause headings and the date of the clause to read as follows:

52.232-34 Payment by Electronic Funds Transfer—Other than System for Award Management.

* * * * *

Payment by Electronic Funds Transfer—Other than System for Award Management (Jul 2013)

* * * * *

69. Amend section 52.232-35 by:

a. Revising the date of the clause; and

b. Removing from paragraph (a) “Central Contractor Registration” and adding “System for Award Management” in its place.

The revised text reads as follows:

52.232-35 Designation of Office for Government Receipt of Electronic Funds Transfer Information.

* * * * *

Designation of Office for Government Receipt of Electronic Funds Transfer Information (Jul 2013)

* * * * *

70. Amend section 52.232-36 by:

a. Revising the date of the clause; and

b. Removing from paragraph (a)(2) “Central Contractor Registration (CCR)” and “CCR” and adding “System for Award Management (SAM)” and “SAM” in their places, respectively.

The revised text reads as follows:

52.232-36 Payment by Third Party.

* * * * *

Payment by Third Party (Jul 2013)

* * * * *

71. Amend section 52.232-38 by:

a. Revising the date of the clause; and

b. Removing from the introductory text “Central Contractor Registration” and adding “System for Award Management” in its place.

The revised text reads as follows:

52.232-38 Submission of Electronic Funds Transfer Information with Offer.

* * * * *

Submission of Electronic Funds Transfer Information With Offer (Jul 2013)

* * * * *

72. Amend section 52.244-6 by revising the date of the clause and paragraph (c)(1)(iii) to read as follows.

52.244-6 Subcontracts for Commercial Items.

* * * * *

Subcontracts for Commercial Items (Jul 2013)

* * * * *

(c)(1) * * *

(iii) 52.219-8, Utilization of Small Business Concerns (Jul 2013) (15 U.S.C. 637(d)(2) and (3)), if the subcontract offers further subcontracting opportunities. If the subcontract (except subcontracts to small business concerns) exceeds $650,000 ($1.5 million for construction of any public facility), the subcontractor must include 52.219-8 in lower tier subcontracts that offer subcontracting opportunities.

* * * * *

[FR Doc. 2013-14612 Filed 6-20-13; 8:45 am]

BILLING CODE 6820-EP-P